DEPARTMENT OF HOMELAND SECURITY

Coast Guard

33 CFR Part 117

[USCG-2015-0964]

Drawbridge Operation Regulations; Tchefuncta River, Madisonville, LA

AGENCY: Coast Guard, DHS.

ACTION: Notice of deviation from regulations.

SUMMARY: The Coast Guard has issued a temporary deviation from the operating schedule that governs the SR 22 Bridge over the Tchefuncta River, mile 2.5, at Madisonville, St. Tammany Parish, Louisiana. This deviation is necessary to complete scheduled maintenance of the bridge. This deviation allows the bridge to remain closed to navigation for approximately six weeks while allowing for two scheduled openings on scheduled work days except for a five-day period and a 36-hour period, both in December, when there will be complete closures. The bridge will operate normally on non-scheduled work days and on weekends.

DATES: This deviation is effective from 7 a.m. on November 2, 2015 until 7 p.m. on December 15, 2015.

ADDRESSES: The docket for this deviation, [USCG-2015-0964] is available at http://www.regulations.gov.

FOR FURTHER INFORMATION CONTACT: If you have questions on this temporary deviation, call or email Jim Wetherington, D8 Bridge Administration Branch, Coast Guard; telephone 504-671-2128, email james.r.wetherington@uscg.mil.

SUPPLEMENTARY INFORMATION: Coastal Bridge Company, LLC, on behalf of Louisiana Department of Transportation and Development (LDOTD), requested a deviation from the operating regulation for the SR 22 Bridge across the Tchefuncta River, mile 2.5, at Madisonville, St. Tammany Parish, Louisiana. The SR 22 Bridge is a swing bridge with a vertical clearance of 6.2 feet above Mean High Water (MHW) in the closed-to-navigation position and unlimited clearance in the open-to-navigation position. The operation of this bridge is currently governed by 33 CFR 117.500.

The closure is necessary for mechanical and electrical rehabilitation of the bridge. The deviation from the operating regulations will be in effect from Monday, November 2, 2015 until Tuesday, December 15, 2015, except for weekends. Within this time frame there will be multiple closure periods, deviating from the regular operating schedule, as follows:

(1) The first closure period will be from 7 a.m. on November 9th, until 7 p.m. on November 13th, 2015, except that the bridge will open at 9 a.m. and 7 p.m., daily, to pass all vessel traffic;

(2) The second closure period will be from 7 a.m. on November 16th until 9 p.m. on November 17th except that the bridge will open at 9 a.m. and 7 p.m., daily, to pass all vessel traffic;

(3) The third closure period will be from 7 a.m. on November 23rd until 9 p.m. on November 24th except that the bridge will open at 9 a.m. and 7 p.m., daily, to pass all vessel traffic;

(4) The fourth closure period will be a total closure from 7 a.m. on November 30th until 7 p.m. on December 4th; there will be no openings during this period;

(5) The fifth and final closure period will be a total closure from 9 a.m. on December 14th until 7 p.m. on December 15th; there will be no openings during this period. All work is expected to be completed by 7 p.m. on Tuesday, December 15, 2015.

Any changes to the scheduled closure times will be announced through the Local Notice to Mariners or through a broadcast. The traffic on the Tchefuncta River is primarily recreational with minimal commercial traffic. The contractor approached each marina and business that could possibly be impacted and forwarded them a copy of the work schedule. No negative comments were noted.

Vessels able to pass through the bridge in the closed-to-navigation position may do so at anytime. The bridge will not be able to open for emergencies and there is no immediate alternate route for vessels to pass. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the designated time periods. This deviation from the operating regulations is authorized under 33 CFR 117.35.

Dated: October 20, 2015.
David M. Frank,
Bridge Administrator, Eighth Coast Guard District.

[FR Doc. 2015-27131 Filed 10-23-15; 8:45 am]

BILLING CODE 9110-04-P